FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
000016F | Major Forwarding Company, Inc., 159-15 Rockaway Blvd., Jamaica, NY 11434 | November 6, 2005.
019184F | Seaboard Solutions, Inc., 8001 N.W. 79th Street, Miami, FL 33166 | November 18, 2005.
016535F | World Trans Logistic Inc., dba World Air Logistic Co., 841 E. Sandhill Avenue, Carson, CA 90746 | November 6, 2005.
004128F | International Logistics, Inc., 9902 S. 148th Street, Omaha, NE 68138 | November 22, 2005.

Sandra L. Kusumoto,
Director, Bureau of Certification and Licensing.

[FR Doc. E5-8010 Filed 12-28-05; 8:45 am]

BILLING CODE 6730-01-P